DEPARTMENT OF JUSTICE

Notice of Lodging of Consent Decree Under the Toxic Substances Control Act

Notice is hereby given that on February 7, 2012, a proposed Consent Decree in United States v. Dover Chemical Corp., Civil Action No. 5:12-cv-00292-SL was lodged with the United States District Court for the Northern District of Ohio.

In this action, the United States sought injunctive relief from Defendant Dover Chemical Corporation (“Dover Chemical”) for violations of the Toxic Substances Control Act (“TSCA”) Section 15, 15 U.S.C. 2614. The Complaint alleges that Dover Chemical manufactured and continues to manufacture multiple “new chemical substances” as defined in TSCA Section 3(9), 15 U.S.C. 2602(9), at its chemical manufacturing plants located in Dover, Ohio and Hammond, Indiana, while failing to comply with the manufacturing and processing notices required under TSCA Section 5, 15 U.S.C. 2604.

The Consent Decree requires Dover Chemical to pay a $1.4 million civil penalty. Dover Chemical has halted manufacture of short-chain chlorinated paraffins and committed to submit premanufacture notices (“PMNs”) for medium and long-chain chlorinated paraffins, pursuant to TSCA Section 5. The proposed Consent Decree prohibits Dover Chemical from manufacturing any chlorinated paraffin product not placed on the TSCA Inventory via the PMN process.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States v. Dover Chemical Corp., D.J. Ref. 90-5-2-1-10116.

During the public comment period, the Consent Decree, may also be examined on the following Department of Justice Web site, to http://www.usdoj.gov/enrd/Consent_Decrees.html. A copy of the Consent Decree may also be obtained by mail from the Consent Decree Library, P.O. Box 7611, U.S. Department of Justice, Washington, DC 20044-7611 or by faxing or emailing a request to “Consent Decree Copy”(EESCDCopy.ENRD@usdoj.gov), fax no. (202) 514-0097, phone confirmation number (202) 514-5271. If requesting a copy from the Consent Decree Library by mail, please enclose a check in the amount of $6.75 (25 cents per page reproduction cost) payable to the U.S. Treasury or, if requesting by email or fax, forward a check in that amount to the Consent Decree Library at the address given above.

Maureen Katz,
Assistant Chief, Environmental Enforcement Section, Environment and Natural Resources Division.

[FR Doc. 2012-4369 Filed 2-23-12; 8:45 am]

BILLING CODE 4410-15-P